DEPARTMENT OF TRANSPORTATION

Federal Railroad Administration

[Docket Number FRA-2012-0078]

Petition for Waiver of Compliance

In accordance with Part 211 of Title 49 Code of Federal Regulations (CFR), this document provides the public notice that by a document dated August 28, 2012, the North Coast Line, Inc. (NCL) of Doylestown, OH, has petitioned the Federal Railroad Administration (FRA) for a waiver of compliance from certain provisions of the Federal railroad safety regulations contained at 49 CFR part 223 (Safety Glazing Standards—Locomotives, Passenger Cars and Cabooses). FRA assigned the petition Docket Number FRA-2012-0078.

NCL has petitioned for a permanent waiver of compliance for a 26-seat diner lounge car, RPCX 3125, named “Paul Revere.” This car was built by The Budd Company in 1952, and since 2007 has operated on lease for passenger excursions that are limited to regional railroads, namely Buffalo and Pittsburgh Railroad, Columbia and Ohio River Railroad, Ohio Central Railroad (Genesee and Wyoming), and Wheeling and Lake Erie Railway. The car typically operates between 1,000 and 2,000 miles per year on about six weekends at speeds 45 mph or less, mostly on single-track rail lines through areas largely rural in nature. When not being used, this car is stored at the Orrville Railroad Heritage Society, Inc. Pine Street Yard in Orrville, OH, on Wheeling and Lake Erie Railway.

There are no end windows except for the end doors. The left side of the car contains six windows while the right side contains seven windows. No Type I or Type II FRA-certified glazing is currently installed in the car. All windows have two panes. Except for the end windows and four emergency windows, all other windows are ¼-inch panes of Duplate ASI PPG Safety Glass. The emergency windows and the end windows are ¼-inch panes of GE Marguard/Lexan. NCL states that there has been no accident or injury attributed to window glazing while under the present ownership since 2007. NCL further states that besides the prohibitive cost (approximately $23,800) involved in retrofitting the car with FRA-certified glazing, side-lining the car for this purpose will be catastrophic because most of its revenue comes from the operation of this car on steam and diesel powered excursions. Therefore, NCL is requesting this relief.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 4, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on December 17, 2012.
Robert C. Lauby,
Deputy Associate Administrator for Regulatory and Legislative Operations.

[FR Doc. 2012-30824 Filed 12-20-12; 8:45 am]

BILLING CODE 4910-06-P